DEPARTMENT OF JUSTICE

Notice of Lodging of Proposed Consent Decree Under the Clean Air Act

On September 13, 2021, the Department of Justice lodged a proposed Consent Decree with the United States District Court for the Southern District of Texas in the lawsuit entitled United States of America v. Formosa Plastics Corporation, Texas, Civil Action No. 21-00043.

In this action, the United States, on behalf of the U.S. Environmental Protection Agency, filed a Complaint and proposed Consent Decree pertaining to Clean Air Act (“CAA”) violations at the petrochemical manufacturing plant (“Facility”) owned and operated by Formosa Plastics Corporation, Texas (“Defendant”) in Point Comfort, Texas. This case stems in part from a May 2, 2013 accidental release of an extremely hazardous substance that caused a fire and explosion at the Facility that resulted in multiple injuries to workers. In the Complaint, the United States alleged that the Defendant violated Section 112(r)(1) of the CAA, 42 U.S.C. 7412(r)(1), by failing to identify risks associated with accidental releases of extremely hazardous substances and failing to design and maintain a safe facility. The Complaint also alleges numerous violations of Section 112(r)(7) of the CAA, 42 U.S.C. 7412(r)(7), and the Chemical Accident Prevention regulations promulgated at 40 CFR part 68, including failure to implement safe work practices and failure to conduct mechanical integrity inspections and tests. Under the proposed settlement, the Defendant will pay $2,850,000 in civil penalties and will be required to update its response and personal protection plans to prevent employee injury, conduct a third-party audit of its risk management practices, perform corrective action based on the audit results, and develop key performance indicators to evaluate future compliance.

The publication of this notice opens a period for public comment on the proposed Consent Decree. Comments should be addressed to the Assistant Attorney General, Environment and Natural Resources Division, and should refer to United States of America v. Formosa Plastics Corporation, Texas, D.J. Ref. No. 90-5-2-1-08995/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $11.25 (25 cents per page reproduction cost) payable to the United States Treasury.

Thomas Carroll,
Assistant Section Chief, Environmental Enforcement Section, Environment and Natural Resources Division.

[FR Doc. 2021-20121 Filed 9-16-21; 8:45 am]

BILLING CODE 4410-15-P